DEPARTMENT OF HEALTH AND HUMAN SERVICES

Centers for Medicare & Medicaid Services

[CMS-4171-NC]

Medicare Program; Request for Information To Aid in the Design and Development of a Survey Regarding Patient Experiences With Hospital Outpatient Surgery Departments/Ambulatory Surgery Centers and Patient-Reported Outcomes From Surgeries and Procedures Performed in These Settings

AGENCY: Centers for Medicare & Medicaid Services (CMS), HHS.

ACTION: Request for information.

SUMMARY: This document is a request for information regarding hospital outpatient surgery departments (HOSDs) and ambulatory surgery centers (ASCs), as well as patient-reported outcomes from surgeries or other procedures performed in these settings.

DATES: The information solicited in this notice must be received at the address provided below by March 26, 2013.

ADDRESSES: In responding to this solicitation, please reply via email to AmbSurgSurvey@cms.hhs.gov or by postal mail at Centers for Medicare and Medicaid Services, Attention: Memuna Ifederah, Mailstop C1-25-05, 7500 Security Boulevard, Baltimore, MD 21244-1850.

FOR FURTHER INFORMATION CONTACT: Memuna Ifederah, (410) 768-6849 or Caren Ginsberg (410) 786-0713.

SUPPLEMENTARY INFORMATION:

I. Background

In accordance with section 3011 of the Affordable Care Act, the Department of Health and Human Services (HHS) developed the National Quality Strategy to create national aims and priorities to guide local, state, and national efforts to improve the quality of health care. The National Quality Strategy established three aims supported by six priorities.

The 3 aims are as follows:

• Better Care: Improve the overall quality, by making health care more patient-centered, reliable, accessible, and safe.

• Healthy People/Healthy Communities: Improve the health of the U.S. population by supporting proven interventions to address behavioral, social, and environmental determinants of health in addition to delivering higher quality care.

• Affordable Care: Reduce the cost of quality health care for individuals, families, employers, and government.¹

¹ Please see U.S. Department of Health and Human Services, Report to Congress, National Strategy for Quality Improvement in Health Care, (March 2011), available at http://www.healthcare.gov/law/resources/reports/nationalqualitystrategy032011.pdf.

The six priorities are: “(1) Making care safer by reducing harm caused by the delivery of care; (2) ensuring that each person and family are engaged as partners in their care; (3) promoting effective communication and coordination of care; (4) promoting the most effective prevention and treatment practices for the leading causes of mortality, starting with cardiovascular disease; (5) working with communities to promote wide use of best practices to enable health living; and (6) making quality care more affordable for individuals, families, employers and governments by developing and spreading new health care delivery models”.

Surveys focusing on the patient experience as well as the Hospital Outpatient Surgery Department/Ambulatory Surgery Patient Experience of Care Survey now under development support the National Quality Strategy of better care and the priorities of—

• Ensuring that each person and family are engaged as partners in their care (priority #2); and

• Promoting effective communication and coordination of care (priority #3).

Since 1995, the Agency for Healthcare Research and Quality (AHRQ) and its Consumer Assessment of Healthcare Providers and Systems (CAHPS®) Consortium, in partnership with the Centers for Medicare & Medicaid Services (CMS), has developed standardized CAHPS® Surveys and tools for a variety of populations to collect data on patient's experiences with and ratings of care. CMS and AHRQ have developed CAHPS® surveys for in-center hemodialysis facilities, nursing homes, and clinician and group practices. CMS has already implemented CAHPS® surveys for health and drug plans, hospitals, and home health agencies.

We are developing a standardized Hospital Outpatient Surgical Department/Ambulatory Surgical Center (HOSD/ASC) Experience of Care Survey to evaluate the care received in these facilities from the patient's perspective. Two related CAHPS® surveys exist; however, they do not collect information specific to the patient experience of care in HOSD/ASC facilities. In 2006, CMS began implementing the Hospital CAHPS® (HCAHPS) Survey, which collects data on hospital inpatients experiences with and ratings of hospital inpatient care. The HCAHPS Survey includes neither patients who receive outpatient surgical care from hospital-based outpatient surgical departments, nor patients who received such care from freestanding ASCs. The Surgical Care CAHPS® Survey, developed by the American College of Surgeons (ACS) and the Surgical Quality Alliance (SQA) focuses on both inpatient and outpatient surgeries and includes questions related to the patient's experience before, during, and after surgery. However, this survey focuses on the care provided by the physician rather than the facility. Hospital outpatient surgery departments and ASCs will be the unit of analysis for this HOSD/ASC survey instrument. The Hospital Outpatient Surgery Department/Ambulatory Surgery Center Patient Experience of Care Survey will be used to help consumers make informed choices about providers as well as improving the quality of care.

II. Solicitation of Information

This document solicits input for developing this new patient experience survey, including the following:

• Relevant topic areas such as communication between patients and health care providers; access to care; customer service; provision of pre- and post-surgical care information; access to follow-up care; care coordination; patient preferences; environment; and safety.

• Publicly available surveys, survey questions, and measures indicating— (1) patient experience and/or level of patient satisfaction with experience in HOSDs/ASCs; and (2) patient-reported outcomes from surgeries or other procedures (for example, colonoscopies, endoscopies) performed in HOSDs and ASCs. These surveys, survey questions, and measures should measure and assess quality of care and patient-reported outcomes from the patient's perspective, and track changes over time.

We are interested in suggestions for topic areas, and publicly available surveys, questions or measures that address the following specifically for outpatient surgery:

• Issues that are that are highly relevant to DHHS and CMS, because they support DHHS's and CMS's efforts for improved quality and efficiency of care and are included in or facilitate alignment with other CMS programs.

• Identification of gaps in the quality of care delivered in outpatient surgical departments.

• Measures of surgical care coordination and related care coordination activities.

• Identification and assessment of patient-reported outcomes, such as pain, nausea and vomiting, deep vein thrombosis, infection, pneumonia, and urinary retention.

We are looking for suggested topic areas, as well as any publicly available surveys, questions and measures in which—(1) the source of information is from patients who directly received care at HOSDs or ASCs; and (2) patients identified the topic areas such as those listed above as important to them in evaluating HOSD or ASC care (for example, wait time and medical staff and physician communication). We are seeking topic areas, surveys, questions and measures that are applicable across outpatient surgical settings (for example, freestanding settings, hospital based settings, for-profit settings; not-for-profit settings; rural settings; urban settings; multi-specialty and single-specialty surgery departments/centers). We prefer existing surveys, questions, and measures that have been tested and have a high degree of reliability and validity, and for which there is evidence of wide use.

This request for information solicits input from consumers, researchers, vendors, health plans, HOSDs, ASCs, surgeons, advocacy organizations, community-based providers, and other stakeholders and interested parties. This call for topic areas, publicly available surveys, questions, and measures is occurring now because of the multi-phased survey development and testing process necessary to produce a standardized instrument. The target population for the survey is adults (defined in CAHPS surveys as 18 years old and older) who recently have had surgery or other procedures, such as a colonoscopy or endoscopy, in a surgical outpatient setting.

CMS is developing this survey and plans to submit it to AHRQ for recognition as a CAHPS® survey. The survey will be developed in accordance with CAHPS® Survey Design Principles and implementation instructions will be based on those for CAHPS® instruments (https://www.cahps.AHRQ.gov/About-CAHPS/Principles.aspx).

We are asking respondents to include the following in their submissions:

• A brief cover letter summarizing the information requested above for submitted topic areas, surveys, questions, and measures, and how the submission will help fulfill the intent of the patient experiences survey.

• (Optional) Information about the person submitting the material for purposes of follow-up questions about the submission, including the following:

++ Name.

++ Title.

++ Organization.

++ Mailing address.

++ Telephone number.

++ Email address.

++ Indication that the topic area or instrument is publicly available.

• When submitting topic areas, respondents should include to the extent available the following information:

++ Detailed descriptions of the suggested topic area(s) and specific purpose(s).

++ Sample questions, in all available languages.

++ Relevant peer-reviewed journal articles or full citations.

++ Name of the instrument.

++ Copies of the full instrument in all available languages.

++ Topic areas included in the survey.

++ Measures derived from the survey.

++ Survey reliability (internal consistency, test-retest, etc.) and validity (content, construct, criterion-related).

++ Results of cognitive testing (one-on-one testing with a small number of respondents to ensure that they understand the questionnaire).

++ Results of field testing.

++ Current use of the instrument (who is using it, what it is being used for, what population it is being used with, how instrument findings are reported, and by whom the findings are used).

++ Relevant peer-review journal articles or full citations.

++ CAHPS® trademark status.

++ Survey administration instructions.

++ Data analysis instructions.

++ Guidelines for reporting survey data.

(Catalog of Federal Domestic Assistance Program No. 93.773, Medicare—Hospital Insurance; and Program No. 93.774, Medicare—Supplementary Medical Insurance Program)

Dated: December 13, 2012.
Marilyn Tavenner,
Acting Administrator, Centers for Medicare & Medicaid Services.

[FR Doc. 2013-01300 Filed 1-24-13; 8:45 am]

BILLING CODE 4120-01-P